DEPARTMENT OF LABOR

Employment and Training Administration

[TA-W-62,331; TA-W-62,331A]

Ansonia Copper and Brass, Inc., Ansonia, CT; and Ansonia Copper & Brass, Inc., Waterbury, CT; Notice of Termination of Investigation

Pursuant to Section 221 of the Trade Act of 1974, as amended, an investigation was initiated on October 19, 2007 in response to a petition filed by a company official on behalf of workers of Ansonia Copper & Brass, Inc., Ansonia, Connecticut (TA-W-62,331) and Ansonia Copper & Brass, Inc., Waterbury, Connecticut (TA-W-62,331A).

The subject firm workers are under existing certifications (TA-W-58,222 and TA-W-58,222A) that expire on December 7, 2007.

The petitioner has requested that the petition be withdrawn. Consequently, the investigation has been terminated. Further investigation in this case would serve no purpose.

Signed at Washington, DC, this 6th day of November, 2007.
Elliott S. Kushner,
Certifying Officer, Division of Trade Adjustment Assistance.

[FR Doc. E7-22323 Filed 11-14-07; 8:45 am]

BILLING CODE 4510-FN-P